DEPARTMENT OF TRANSPORTATION

National Highway Traffic Safety Administration

[Docket No. NHTSA-2007-28927; Notice 1]

Sidump'r Trailer Company, Inc., Receipt of Petition for Decision of Inconsequential Noncompliance

Sidump'r Trailer Company, Inc. (“Sidump'r”) has determined that the rear impact guards on certain trailers that it manufactured between January 10, 2006 and April 13, 2007 do not comply with paragraph S5.1 of 49 CFR 571.224, Federal Motor Vehicle Safety Standard (FMVSS) No. 224, Rear Impact Protection. Sidump'r has filed an appropriate report pursuant to 49 CFR Part 573, Defect and Noncompliance Responsibility Reports.

Pursuant to 49 U.S.C. 30118(d) and 30120(h), Sidump'r has petitioned for an exemption from the notification and remedy requirements of 49 U.S.C. Chapter 301 on the basis that this noncompliance is inconsequential to motor vehicle safety.

This notice of receipt of the Sidump'r petition is published under 49 U.S.C. 30118 and 30120 and does not represent any agency decision or other exercise of judgment concerning the merits of the petition.

Affected are approximately 416 model 223, 325 and 425 side dump bulk material hauling trailers manufactured by Sidump'r between January 10, 2006 and April 13, 2007. Paragraph S5.1.3 Guard Rear Surface of FMVSS No. 224 requires:

At any height 560 mm or more above the ground, the rearmost surface of the horizontal member of the guard shall be located as close as practical to a transverse vertical plane tangent to the rear extremity of the vehicle, but no more than 305 mm forward of that plane.

Paragraph S5.1.2 Guard Height of FMVSS No. 224 requires:

The vertical distance between the bottom edge of the horizontal member of the guard and the ground shall not exceed 560 mm at any point across the full width of the member.

Sidump'r first became aware of the noncompliance of these trailers when Sidump'r received a customer inquiry on or about February 27, 2007 regarding the rear impact guards installed on the subject trailers. As a result of this inquiry, Sidump'r stated that it commenced a thorough engineering evaluation of the rear end of the subject trailers to determine whether they meet the requirements of FMVSS No. 224. Following this engineering evaluation and after consultation with its counsel, Sidump'r determined that the trailers do not comply with FMVSS No. 224.

Specifically, Sidump'r has determined that the location of those guards does not meet the requirements of paragraph S5.1.3 of FMVSS No. 224 because there is a “push block” located at the rear of the trailer chassis extending 23.62 inches (600 mm) to the rear of the rear impact guard. Sidump'r stated that it considered the “push blocks” to be the “rear extremities” of the subject trailers. Therefore, it concluded that the rearmost surface of the horizontal members of the rear impact guards are located 11.62 inches (295 mm) too far forward of the “rear extremity” of the trailers to conform with the requirements of paragraph S5.1.3.

Sidump'r also examined the possibility of the “push block” itself serving as the rear impact guard. It determined that the “push block” itself does not constitute a compliant rear impact guard as originally installed because it exceeds the maximum ground clearance of 22 inches (560 mm) allowed by paragraph S5.1.2 of FMVSS No. 224 by 1.5 inches (38.1 mm).

Sidump'r stated that it has corrected the problem that caused the noncompliance in the trailers they produced after April 20, 2007 by modifying the design of the trailers to incorporate a horizontal member mounted to the underside of the “push block” assembly.

Sidump'r also stated that it believes this noncompliance is inconsequential to motor vehicle safety and that no further corrective action is warranted due to the geometric characteristics of the trailers and the nature of their field usage. Specifically, Sidump'r makes the arguments that the overall level of safety of the subject trailers is equivalent to a compliant trailer because their “push block” is comparable to a compliant rear impact guard based on dimensional considerations, and that the trailers spend a limited amount of time on public roads.

Sidump'r additionally supported its position by citing several previous decisions where NHTSA granted temporary exemptions to FMVSS No. 224 as the result of petitions filed under 49 CFR Part 555 Temporary Exemption From Motor Vehicle Safety and Bumper Standards for noncompliances that it considers similar in consequence to those covered in the instant petition.

Sidump'r did not state if it knows of any accidents or other issues associated with this noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: September 17, 2007.

Authority: 49 U.S.C. 30118, 30120: delegations of authority at CFR 1.50 and 501.8.

Issued on: August 10, 2007.
Claude H. Harris,
Director, Office of Vehicle Safety Compliance.

[FR Doc. E7-16093 Filed 8-15-07; 8:45 am]

BILLING CODE 4910-59-P